DEPARTMENT OF HEALTH AND HUMAN SERVICES

42 CFR Part 81

RIN: 0920-ZA00

Guidelines for Determining the Probability of Causation Under the Energy Employees Occupational Illness Compensation Program Act of 2000

AGENCY: Department of Health and Human Services.

ACTION: Notice of proposed rulemaking; reopening of comment period.

SUMMARY: The Department of Health and Human Services(DHHS) is reopening the comment period for the proposed rule on the guidelines for determining probability of causation for certain claims for cancer under the Energy Employees Occupational Illness Program Act (EEOICPA) that was published in the Federal Register of Friday, October 5, 2001. After considering these comments, comments previously received, and the technical review and comments from the Advisory Board on Radiation and Worker Health (ABRWH), DHHS will publish a final rule.

DATES: Any public written comments not submitted at the meeting of the ABRWH must be received on or before Wednesday, January 23, 2002.

ABRWH must submit any comments and recommendations on the probability of causation to DHHS by Wednesday, February 6, 2002.

ADDRESSES: Submit written comments to: Attention—Dose Reconstruction Comments, Department of Health and Human Services, National Institute for Occupational Safety and Health (NIOSH), Robert A. Taft Laboratories, MS-C34, 4676 Columbia Parkway, Cincinnati, OH 45226, Telephone: (513) 533-8450, Fax: (513) 533-8285, e-mail: NIOCINDOCKET@CDC.GOV.

FOR FURTHER INFORMATION CONTACT: Larry Elliott, Director, Office of Compensation Analysis and Support, National Institute for Occupational Safety and Health, 4676 Columbia Parkway, Cincinnati, Ohio 45226, Telephone 513-841-4498 (this is not a toll free number). Information requests may also be submitted by e-mail to OCAS@CDC.GOV.

SUPPLEMENTARY INFORMATION: On October 5, 2001, HHS published a notice of proposed rulemaking proposing guidelines for determining the probability of causation for certain cancer claims filed under EEOICPA, Public Law 106-398 [See FR Vol. 66, No. 194, 50967]. The notice included a public comment period that ended on December 4, 2001. However, EEOICPA requires ABRWH to complete a technical review of the proposed guidelines before they are promulgated as an effective regulation. ABRWH will be conducting its technical review during a meeting of the ABRWH scheduled for Tuesday, January 22, 2002 and Wednesday, January 23, 2002.

To provide the public with the opportunity to participate in this review, HHS will reopen the public comment period to include the ABRWH Meeting transcript and any statements submitted for the record of that meeting in the docket of this rule. DHHS will also accept additional public written comments submitted to its docket office on or before Wednesday, January 23, 2002. The record for this rulemaking will close on Wednesday, February 6, 2002, by which time ABRWH must submit its final recommendations on the probability of causation to DHHS.

Dated: January 14, 2002.
Tommy G. Thompson,
Secretary.

[FR Doc. 02-1319 Filed 1-16-02; 8:45 am]

BILLING CODE 4160-17-P